DEPARTMENT OF COMMERCE

National Oceanic and Atmospheric Administration

[RTID 0648-XR089]

Marine Mammals; File No. 23640

AGENCY: National Marine Fisheries Service (NMFS), National Oceanic and Atmospheric Administration (NOAA), Commerce.

ACTION: Notice; receipt of application.

SUMMARY: Notice is hereby given that Wall to Wall Productions, Edgecumbe Hall, Richmond Hill, Bristol, BS8 1AT, United Kingdom (Responsible Party: James Hemming) has applied in due form for a permit to conduct commercial or educational photography on marine mammals.

DATES: Written, telefaxed, or email comments must be received on or before February 28, 2020.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 23460 in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.) and the regulations governing the taking of marine mammals (50 CFR part 216).

The applicant proposes to film marine mammals in California and Oregon to obtain footage for a wildlife documentary on parental behavior including courtship, mating, birthing, and weaning. Up to 1,200 harbor seals (Phoca vitulina), 400 California sea lions (Zalophus californianus), 20 Northern elephant seals (Mirounga angustirostris), 20 Steller sea lions (Eumetopias jubatus; Eastern distinct population segment), 15 gray whales (Eschrichtius robustus), 75 long-beaked (Delphinus capensis) or short-beaked common dolphins (D. delphis), and 25 bottlenose dolphins (Tursiops truncatus) may be filmed from land, vessels, unmanned aircraft systems, or underwater divers. The permit would expire on March 31, 2021.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 24, 2020.
Julia Marie Harrison,
Chief, Permits and Conservation Division, Office of Protected Resources, National Marine Fisheries Service.

[FR Doc. 2020-01583 Filed 1-28-20; 8:45 am]

BILLING CODE 3510-22-P